DEPARTMENT OF THE TREASURY

Submission for OMB Review; Comment Request

June 9, 2010.

The Department of Treasury will submit the following public information collection requirement to OMB for review and clearance under the Paperwork Reduction Act of 1995, Public Law 104-13 on or after the date of publication of this notice. A copy of this submission may be obtained by calling the Treasury Department Office Clearance Officers listed. Comments regarding these information collections should be addressed to the OMB reviewer listed and to the Treasury PRA Clearance Officer, Department of the Treasury, 1750 Pennsylvania Avenue, NW., Suite 11010, Washington, DC 20220.

DATES: Written comments should be received on or before July 16, 2010 to be assured of consideration.

Office of Financial Stability (OFS)

OMB Number: 1505-0222.

Type of Review: Extension without change of a currently approved collection.

Title: Troubled Asset Relief Program (TARP)—Capital Purchase Program (CPP) Participants Use of Funds Survey.

Description: Authorized under the Emergency Economic Stabilization Act (EESA) of 2008 (Pub. L. 110-343), the Department of the Treasury has implemented several aspects of the Troubled Asset Relief Program (TARP). The TARP includes several components including a voluntary Capital Purchase Program (CPP) under which the Department has purchased qualifying capital in U.S. banking organizations. The CPP is an important part of the Department's efforts to restore confidence in our financial system and ensure that credit continues to be available to consumers and businesses. As an essential part of restoring confidence, the Treasury has committed to determining the effectiveness of the CPP. Additionally, American taxpayers are particularly interested in knowing how banks have used the money that Treasury has invested through the CPP. Consequently, the Treasury is seeking responses from banking institutions that have received CPP funds regarding: how the CPP investment has affected the banks' operations, how these institutions have used CPP funds, and how their usage of CPP funds has changed over time. The information will be used to gauge how participants in the CPP are utilizing TARP capital.

Respondents: Private Sector: Businesses or other for-profit institutions.

Estimated Total Reporting Burden: 51,200 hours.

OFS Clearance Officer: Daniel Abramowitz, OFS, 1801 L Street, NW., Washington, DC 20036; (202) 927-9645

OMB Reviewer: Shagufta Ahmed, Office of Management and Budget, New Executive Office Building, Room 10235, Washington, DC 20503; (202) 395-7873.

Dawn D. Wolfgang,
Treasury PRA Clearance Officer.

[FR Doc. 2010-14501 Filed 6-15-10; 8:45 am]

BILLING CODE 4810-25-P